DEPARTMENT OF JUSTICE

Immigration and Naturalization Service

8 CFR Part 212

[INS No. 2020-99]

RIN 1115-AF81

Update of the List of Countries Whose Citizens or Nationals Are Ineligible for Transit Without Visa (TWOV) Privileges to the United States Under the TWOV Program

AGENCY: Immigration and Naturalization Service, Department of Justice.

ACTION: Interim rule; delay of effective date.

SUMMARY: In accordance with the memorandum of January 20, 2001, from the Assistant to the President and Chief of Staff, entitled “Regulatory Review Plan,” published in the Federal Register on January 24, 2001, this action temporarily delays for 60 days the effective date of the rule entitled “Update of the List of Countries Whose Citizens or Nationals Are Ineligible for Transit Without Visa (TWOV) Privileges to the United States under the TWOV Program”, published in the Federal Register on January 5, 2001, at 66 FR 1017. The temporary 60-day delay in effective date is necessary to give Department of Justice officials the opportunity for further review and consideration of new regulations, consistent with the Assistant to the President's memorandum of January 20, 2001.

DATES: The effective date of the “Update of the List of Countries Whose Citizens or Nationals Are Ineligible for Transit Without Visa (TWOV) Privileges to the United States under the TWOV Program”, published in the Federal Register on January 5, 2001, at 66 FR 1017, is delayed for 60 days, from February 5, 2001, to a new effective date of April 6, 2001.

FOR FURTHER INFORMATION CONTACT: Richard A. Sloan, Director, Policy Directives and Instructions Branch (HQPDI), Immigration and Naturalization Service, 425 I Street, NW, room 4034, Washington DC 20536, telephone number (202) 514-3048.

SUPPLEMENTARY INFORMATION: To the extent that 5 U.S.C. section 553 applies to this action, it is exempt from notice and comment because it constitutes a rule of procedure under 5 U.S.C. section 553(b)(A). Alternatively, the Immigration and Naturalization Service (Service) implementation of this action without opportunity for public comment, effective immediately upon publication today in the Federal Register, is based on the good cause exceptions in 5 U.S.C. section 553(b)(B) and 553(d)(3). Seeking public comment is impracticable, unnecessary and contrary to the public interest. The temporary 60-day delay in effective date is necessary to give Department of Justice officials the opportunity for further review and consideration of new regulations, consistent with the Assistant to the President's memorandum of January 20, 2001. Given the imminence of the effective date, seeking prior public comment on this temporary delay would have been impractical, as well as contrary to the public interest in the orderly promulgation and implementation of regulations. The imminence of the effective date is also good cause for making this action effective immediately upon publication.

Dated: January 29, 2001.
Mary Ann Wyrsch,
Acting Commissioner, Immigration and Naturalization Service.

[FR Doc. 01-2821 Filed 2-1-01; 8:45 am]

BILLING CODE 4410-10-M